DEPARTMENT OF TRANSPORTATION

Federal Aviation Administration

14 CFR Part 73

[Docket No. FAA-2023-0307; Airspace Docket No. 22-AAL-78]

RIN 2120-AA66

Amendment of Restricted Areas R-2204 Oliktok Point High and R-2204 Oliktok Point Low; AK

AGENCY: Federal Aviation Administration (FAA), DOT.

ACTION: Final rule.

SUMMARY: This action amends the using agency listed for restricted areas R-2204 Oliktok Point High, AK, and R-2204 Oliktok Point Low, AK, from “Department of Energy, Office of Science, Washington DC” to “Department of Energy, Arctic Energy Office, Washington, DC.” This action does not change any boundaries, altitudes, times of designation, or activities conducted within the restricted areas.

DATES: Effective date 0901 UTC, April 20, 2023.

FOR FURTHER INFORMATION CONTACT: Steven Roff, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it updates the using agency listed for restricted areas R-2204 Oliktok Point High, AK, and R-2204 Oliktok Point Low, AK.

Background

The U.S. Department of Energy (DOE) requested that the Federal Aviation Administration amend the descriptions of restricted areas R-2204 Oliktok Point High, AK, and R-2204 Oliktok Point Low, AK, by changing the using agency listed for each from “Department of Energy, Office of Science, Washington, DC” to “Department of Energy, Arctic Energy Office, Washington, DC”. The request is the result of the DOE re-establishing the Arctic Energy Office with an office in Fairbanks, AK, and determining it to be in the best interest of the DOE that the Arctic Energy Office undertake the using agency responsibilities for the R-2204 Oliktok Point High and R-2204 Oliktok Point Low restricted areas. Both DOE offices, the Office of Science, Biological and Environmental Research and the Arctic Energy Office, support the using agency change.

The Rule

This action amends 14 CFR part 73 by changing the using agency name listed for restricted areas R-2204 Oliktok Point High and R-2204 Oliktok Point Low, AK, from “Department of Energy, Office of Science, Washington DC” to “Department of Energy, Arctic Energy Office, Washington, DC”. This action is necessary in order to reflect the current organization tasked with using agency responsibilities for the restricted areas.

This is an administrative change that does not affect the boundaries, designated altitudes, times of designation, or activities conducted within restricted areas R-2204 Oliktok Point High and R-2204 Oliktok Point Low, AK; therefore, notice and public procedure under 5 U.S.C. 553(b) are unnecessary.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending the using agency information for R-2204 Oliktok Point High and R-2204 Oliktok Point Low, AK, qualifies for categorical exclusion under the National Environmental Policy Act (42 U.S.C. 4321 et seq.) and its implementing regulations at 40 CFR part 1500, and in accordance with FAA Order 1050.1F “Environmental Impacts: Policies and Procedures,” paragraph 5-6.5a, which categorically excludes from further environmental impact review rulemaking actions that designate or modify classes of airspace areas, airways, routes, and reporting points (see 14 CFR part 71, Designation of Class A, B, C, D, and E Airspace Areas; Air Traffic Service Routes; and Reporting Points), and paragraph 5-6.5d, which categorically excludes from further environmental impact review the modification of the technical description of special use airspace (SUA) that does not alter the dimensions, altitudes, or times of designation of the airspace (such as changes in designation of the controlling or using agency, or correction of typographical errors). This airspace action is an administrative change to the description of restricted areas R-2204 Oliktok Point High and R-2204 Oliktok Point Low, AK, to update the using agency name. It does not alter the restricted area dimensions, designated altitudes, times of designation, or use of the airspace. Therefore, this airspace action is not expected to result in any significant environmental impacts. In accordance with FAA Order 1050.1F, paragraph 5-2 regarding Extraordinary Circumstances, this action has been reviewed for factors and circumstances in which a normally categorically excluded action may have a significant environmental impact requiring further analysis. The FAA has determined that no extraordinary circumstances exist that warrant preparation of an environmental assessment or environmental impact study.

Lists of Subjects in 14 CFR Part 73

Airspace, Prohibited areas, Restricted areas.

The Amendment

In consideration of the foregoing, the Federal Aviation Administration amends 14 CFR part 73 as follows:

PART 73—SPECIAL USE AIRSPACE

1. The authority citation for 14 CFR part 73 continues to read as follows:

Authority: 49 U.S.C. 106(f), 106(g), 40103, 40113, 40120; E.O. 10854, 24 FR 9565, 3 CFR, 1959-1963 Comp., p.389.

§ 73.22 [Amended]

2. Section 73.22 is amended as follows:

* * * * *

R-2204 Oliktok Point High, AK [Amended]

By removing the current using agency and adding the following in its place:

Using Agency. U.S. Department of Energy, Arctic Energy Office, Washington, DC.

* * * * *

R-2204 Oliktok Point Low, AK [Amended]

By removing the current using agency and adding the following in its place:

Using Agency. U.S. Department of Energy, Arctic Energy Office, Washington, DC.

* * * * *

Issued in Washington, DC, on February 6, 2023.
Brian Konie,
Acting Manager, Airspace Rules and Regulations.

[FR Doc. 2023-02822 Filed 2-9-23; 8:45 am]

BILLING CODE 4910-13-P